DEPARTMENT OF AGRICULTURE

Forest Service

Notice of New Fee Sites; Federal Lands Recreation Enhancement Act, (Title VIII, Pub. L. 108-447)

AGENCY: Northern Region, USDA Forest Service.

ACTION: Notice of New Fee Sites.

SUMMARY: Pending public comments and feedback received through the BLM Resource Advisory Council (BLM RAC) review and recommendation process, the following National Forests and National Grasslands in the Northern Region propose to begin charging new fees at the following recreation sites: The Beaverhead Deerlodge National Forest will begin charging new fees for overnight camping at Pintler Campground ($5/night) with an additional vehicle fee of $3/vehicle; East Fork Campground ($8/night) with an additional vehicle fee of $3/vehicle; North Van Houten Campground ($9/night) with an additional vehicle fee of $3/vehicle; South Van Houten Campground ($9/night) with an additional vehicle fee of $3/vehicle Twin Lakes Campground ($9/night) with an additional vehicle fee of $3/vehicle; for day use at Canyon Creek Day Use Site ($4/site), and for the overnight rental at Long Tom Cabin ($40/night); and at Springhill Cabin ($50/night). Bitterroot National Forest will begin charging new fees for overnight camping at Blodgett Campground ($8/night); for day use at Willoughby Group Site ($50); for the overnight rental of Lost Horse Cabin ($50/night); and Boulder Point Lookout ($35/night). The Clearwater National Forest will begin charging new fees for the overnight rental of Wendover Cabin ($40/night). The Custer National Forest will begin charging new fees for overnight camping at Jimmy Joe Campground ($10/night) with an extra vehicle fee of $5/night; Palisades Campground ($10/night) with an extra vehicle fee of $5/night; M K Campground ($10/night) with an extra vehicle fee of $5/night; and Initial Creek Campground ($10/night) with an extra vehicle fee of $5/night. The Dakota Prairie Grasslands will begin charging new fees for overnight camping at Burning Coal Vein Campground ($10/night). The Idaho Panhandle National Forest will begin charging new fees for overnight camping at Cedar Creek Campground ($8/night) with an extra vehicle fee of $2/night; Telichpah Campground ($8/night) with an additional vehicle fee of $2/night; Tripod Point Campground ($5/night); Distillery Bay Campground ($5/night); Bottle Bay Campground ($5/night); and Teacher Bay Campground ($5/night). The Idaho Panhandle National Forest will also begin charging a dump station fee of $3 at Upper Landing Dump Station for each tank downloaded. The Nez Perce National Forest will begin charging new fees for the overnight rental of Sourdough Lookout ($30/night); Moore's Station Cabin ($50/night); Elk Mountain Cabin ($35/night); Selway Falls Cabin ($50/night); Burnt Knob Lookout ($25/night); Square Mountain Lookout ($25/night); and Indian Hill Cabin ($35/night). Rentals of other cabins and lookouts throughout the Northern Region have shown that the public appreciates and enjoys the availability of historic rental cabins and lookouts as well as campgrounds and group camping sites. Funds from the cabin rentals, campgrounds, group camping site, day use site and dump station will be used for the continued operation and maintenance of recreation sites.

DATES: Pending additional public comment and BLM Resource Advisory Committee review and recommendation regarding charging new fees at these proposed sites, the cabins, lookouts, campgrounds, group camping site, group use day use site, day use site and RV dump station could become available as early as June 24, 2009. Additionally, fee pricing may be adjusted per the proposed Region One Regional Recreation Fee schedule, per public and BLM RAC comments on the framework and fee pricing schedule, which will also go through Federal Register notice, regional and local public comment, and BLM RAC review and recommendation.

ADDRESSES: Comments regarding these new proposed fee sites may be sent directly to the respective Forest or Grassland: Forest Supervisor, Beaverhead-Deerlodge National Forest, 420 Barrett Street, Dillon, MT 59725-3572; Forest Supervisor, Bitterroot National Forest, 1801 North First Street, Hamilton, MT 59840; Forest Supervisor, Clearwater National Forest, 12730 Highway 12, Orofino, ID 83544; Forest Supervisor, Custer National Forest, 1310 Main Street, Billings, MT 59105; Grasslands Supervisor, Dakota Prairie Grasslands, 240 W. Century Avenue, Bismark, ND 58503; Forest Supervisor, Idaho Panhandle National Forest, 3815 Schreiber Way, Coeur d'Alene, ID 83815; Forest Supervisor, Nez Perce National Forest, 104 Airport Road, Grangeville, ID 83530.

FOR FURTHER INFORMATION CONTACT: Joni Packard, Northern Region Recreation Fee Program Coordinator, 406-329-3586.

SUPPLEMENTARY INFORMATION: The Federal Recreation Lands Enhancement Act (Title VII, Pub. L. 108-447) directed the Secretary of Agriculture to publish a six month advance notice in the Federal Register whenever new recreation fee areas are established. The intent of this notice is to give the public an opportunity to comment if they have concerns or questions about new fees.

The Northern Region currently offers over 150 other cabin rentals, including guard stations and fire lookouts, 208 fee campgrounds and 268 non-fee (free) campgrounds. Many sites are often fully booked throughout their rental season. Local public comments have shown that people desire having these sorts of recreation experiences on these National Forests and Grasslands. The fees proposed are based on amenities offered and local comparable markets and are both reasonable and acceptable for these sorts of unique recreation experience.

People wanting to rent these cabins, lookouts, campgrounds and group camping sites will need to do so through the National Recreation Reservation Service (NRRS), at http://www.recreation.gov or by calling 1-877-444-6777. The National Recreation Reservation Service charges a $9 fee for reservations made on-line and a $10 fee for reservations made by phone.

Dated: December 18, 2008.
Thomas Tidwell,
Regional Forester, Northern Region.

[FR Doc. E8-30652 Filed 12-23-08; 8:45 am]

BILLING CODE 3410-11-M